Proclamation 10211 of May 14, 2021

Emergency Medical Services Week, 2021

By the President of the United States of America

A Proclamation

Every day, in communities across the country, Emergency Medical Service (EMS) providers put themselves on the line to save lives, safeguard dangerous situations, and deliver hope to families and communities in crisis. With selflessness, professionalism, and grace under fire, they provide essential care—never more so than during our battle with COVID-19 over the past year. This year's Emergency Medical Services Week theme, “THIS IS EMS: Caring for Our Communities,” honors our heroic frontline workers who provide vital emergency medical care and ease the burden of crisis for Americans in need of help.

Through service, compassion, and dedication, EMS providers represent the very best of the American spirit. In the face of unprecedented challenges, their expertise, endurance, and hard work have been a literal lifeline for families in every community. Whether responding to the enormous suffering caused by COVID-19, the devastation of extreme climate events, or daily medical emergencies, EMS providers—many of whom are volunteers—prepare, sacrifice, and put others ahead of themselves. Not only do they assume the heightened risks associated with emergency care during a pandemic, but they also spend countless hours away from families and friends in order to serve their communities.

In the face of these challenges, EMS providers have not hesitated to take on new roles, including supporting COVID-19 testing, therapeutics, and vaccination sites. To help support the women and men who do this vital work, my American Rescue Plan included $100 million to support the mental well-being—including the mental health—of our health care professionals, paraprofessionals, public safety officers, and EMS providers. My Administration has also made it a priority to ensure that our State, local, Tribal, and territorial partners have the resources they need so that EMS providers are trained and equipped to respond to public health emergencies safely and effectively, now and in the future.

During Emergency Medical Services Week, we extend our deepest gratitude to all EMS providers. Their courage, selflessness, and commitment are extraordinary examples of what it means to serve this great country. We also extend our sincere condolences to the loved ones of EMS providers who have given their lives in the line of duty. This week and every week, I urge all Americans to express their appreciation for our Nation's EMS providers—and to bring greater safety to their lives, and to all of our lives, by getting vaccinated to help bring an end to the COVID-19 pandemic.

NOW, THEREFORE, I, JOSEPH R. BIDEN JR., President of the United States of America, by virtue of the authority vested in me by the Constitution and the laws of the United States, do hereby proclaim May 16 through May 22, 2021, as Emergency Medical Services Week. I call upon public officials, doctors, nurses, paramedics, Emergency Medical Service providers, and all the people of the United States to observe this week with appropriate programs, ceremonies, and activities.

IN WITNESS WHEREOF, I have hereunto set my hand this fourteenth day of May, in the year of our Lord two thousand twenty-one, and of the Independence of the United States of America the two hundred and forty-fifth.

[FR Doc. 2021-10688

Filed 5-18-21; 8:45 am]

Billing code 3295-F1-P